DEPARTMENT OF JUSTICE

Drug Enforcement Administration

[Docket No. DEA-846]

Bulk Manufacturer of Controlled Substances Application: Chemic Laboratories

AGENCY: Drug Enforcement Administration, Justice.

ACTION: Notice of application.

SUMMARY: Chemic Laboratories, has applied to be registered as a bulk manufacturer of basic class(es) of controlled substance(s). Refer to Supplemental Information listed below for further drug information.

DATES: Registered bulk manufacturers of the affected basic class(es), and applicants therefore, may file written comments on or objections to the issuance of the proposed registration on or before August 27, 2021. Such persons may also file a written request for a hearing on the application on or before August 27, 2021.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on April 30, 2021, Chemic Laboratories, 480 Neponset Street, Building 7, Canton, Massachusetts 02021-1971, applied to be registered as a bulk manufacturer of the following basic class(es) of controlled substance(s):

Controlled substance | Drug code | Schedule
Psilocybin | 7437 | I
Psilocyn | 7438 | I

The company plans to manufacture small quantities of the listed controlled substances for research and development in preclinical studies for sale to its customers. No other activities for these drug codes are authorized for this registration.

William T. McDermott,
Assistant Administrator.

[FR Doc. 2021-13671 Filed 6-25-21; 8:45 am]

BILLING CODE P